DEPARTMENT OF THE INTERIOR

Fish and Wildlife Service

50 CFR Part 17

RIN 1018-AH70

Endangered and Threatened Wildlife and Plants; Designating Critical Habitat for Plant Species from the Islands of Maui and Kahoolawe, HI

AGENCY: Fish and Wildlife Service, Interior.

ACTION: Proposed rule; reopening and extension of comment period and notice of availability of draft economic analysis.

SUMMARY: We, the U.S. Fish and Wildlife Service, announce the availability of the draft economic analysis for the proposed designations of critical habitat for plant species from the islands of Maui and Kahoolawe, Hawaii. In earlier Federal Register notices published August 26, 2002, we reopened the comment period and provided notice of a public hearing (67 FR 54764 and 67 FR 54766) for the proposed designations or non-designations of critical habitat for these plants. We are now providing notice of extending the comment period to allow peer reviewers and all interested parties to comment simultaneously on the proposed rule and the associated draft economic analysis. Comments previously submitted need not be resubmitted as they will be incorporated into the public record as part of this extended comment period and will be fully considered in preparation of the final rule.

DATES: We will accept public comments until November 1, 2002.

ADDRESSES: Written comments and information should be submitted to Field Supervisor, U.S. Fish and Wildlife Service, Pacific Islands Office, 300 Ala Moana Blvd., P.O. Box 50088, Honolulu, HI 96850-0001. For further instructions on commenting, refer to Public Comments Solicited section of this notice.

FOR FURTHER INFORMATION CONTACT: Paul Henson, Field Supervisor, Pacific Islands Office, at the above address (telephone: 808/541-3441; facsimile: 808/541-3470).

SUPPLEMENTARY INFORMATION:

Background

Seventy plant species reported from the islands of Maui and Kahoolawe were listed as threatened or endangered under the Endangered Species Act of 1973, as amended (Act), between 1991 and 1999 (56 FR 1450, 56 FR 47686, 56 FR 55770, 57 FR 20589, 57 FR 20772, 57 FR 46325, 59 FR 9304, 59 FR 10305, 59 FR 14482, 59 FR 32932, 59 FR 49025, 59 FR 49860, 59 FR 56333, 59 FR 62346, 61 FR 53108 and 64 FR 48307). Seventeen of these species are endemic to the islands of Maui and/or Kahoolawe, while 53 species are reported from one or more other islands, as well as Maui and/or Kahoolawe.

In other published proposals (65 FR 7919), we proposed that critical habitat was prudent for 37 plants from the islands of Maui and Kahoolawe. In a November 7, 2000 (65 FR 66808), we proposed that critical habitat was prudent for 11 plants that are reported from Maui and Kahoolawe as well as from Kauai and Niihau. In addition, at the time we listed Clermontia samuelii, Cyanea copelandii ssp. haleakalaensis, Cyanea glabra, Cyanea hamatiflora ssp. hamatiflora, Dubautia plantaginea ssp. humilis, and Kanaloa kahoolawensis, on September 3, 1999 (64 FR 48307), we determined that designation of critical habitat was prudent for these six taxa from Maui and Kahoolawe. No change is made to these 54 prudency determinations in this revised proposal, and they are hereby incorporated by reference (64 FR 48307; 65 FR 66808; 65 FR 79192).

In the December 18, 2000, proposed rule, we determined that critical habitat was not prudent for Acaena exigua, a species known only from Kauai and Maui, because it had not been seen recently in the wild, and no viable genetic material of this species was known to exist. No change is made here to the December 18, 2000, prudency determination for this species and it is hereby incorporated by reference (65 FR 79192).

We propose critical habitat designations for 61 species within 13 critical habitat units totaling approximately 51,208 hectares (ha) (126,531 acres (ac)) on the island of Maui, and within 2 critical habitat units totaling approximately 714 ha (18,972 ac) on the island of Kahoolawe (67 FR 15856).

Critical habitat receives protection from destruction or adverse modification through required consultation under section 7 of the Act (16 U.S.C. 1531 et seq.) with regard to actions carried out, funded, or authorized by a Federal agency. Section 4(b)(2) of the Act requires that the Secretary shall designate or revise critical habitat based upon the best scientific and commercial data available, and after taking into consideration the economic impact of specifying any particular area as critical habitat. We have prepared a draft economic analysis of the proposed critical habitat designation. The draft economic analysis is available on the Internet and from the mailing address in the Public Comments Solicited section below.

The public comment period for the April 3, 2002, proposal originally closed on June 3, 2002 (67 FR 15856). On August 26, 2002, we published a Federal Register notice (67 FR 54766) of the reopening of the comment period for the proposed designations and non-designations of critical habitat for plant species on the islands of Maui and Kahoolawe, as well as for the proposed designations and non-designations of critical habitat for plant species on the islands of Kauai, Niihau, Molokai, Maui, Kahoolawe, Hawaii, and Oahu; and we announced that the comment period would close on September 30, 2002. On August 26, 2002, we also published a Federal Register notice (67 FR 54764) that announced the reopening of the comment period and gave notice of a public hearing for the proposed designations and non-designations of critical habitat for plant species on the islands of Maui and Kahoolawe. The public hearing was held on September 12, 2002, on the island of Maui. We are now announcing the availability of the draft economic analysis and the extension of the comment period for the proposed designations and non-designations of critical habitat for plant species on the islands of Maui and Kahoolawe. We will accept public comments on the proposal and the associated draft economic analysis for the islands of Maui and Kahoolawe until November 1, 2002. The extension of the comment period gives all interested parties the opportunity to comment on the proposal and the associated draft economic analysis for the islands of Maui and Kahoolawe. Comments already submitted on the proposed designations and non-designations of critical habitat for plant species from the islands of Maui and Kahoolawe need not be resubmitted as they will be fully considered in the final determinations.

Public Comments Solicited

We will accept written comments and information during this re-opened comment period. If you wish to comment, you may submit your comments and materials concerning this proposal by any of several methods:

(1) You may submit written comments and information to the Field Supervisor, U.S. Fish and Wildlife Service, Pacific Islands Office, 300 Ala Moana Blvd., P.O. Box 50088, Honolulu, HI 96850-0001.

(2) You may send comments by electronic mail (e-mail) to: Maui_crithab@r1.fws.gov. If you submit comments by e-mail, please submit them as an ASCII file and avoid the use of special characters and any form of encryption. Please also include “Attn: RIN 1018—AH70” and your name and return address in your e-mail message. If you do not receive a confirmation from the system that we have received your e-mail message, contact us directly by calling our Honolulu Fish and Wildlife Office at telephone number 808/541-3441.

(3) You may hand-deliver comments to our Honolulu Fish and Wildlife Office at the address given above.

Comments and materials received, as well as supporting documentation used in preparation of the proposal to designate critical habitat, will be available for inspection, by appointment, during normal business hours at the address under (1) above. Copies of the draft economic analysis are available on the Internet at http://pacificislands.fws.gov or by request from the Field Supervisor at the address and phone number under (1 and 2) above.

Author(s)

The primary author of this notice is John Nuss, U.S. Fish and Wildlife Service, Regional Office, 911 NE 11th Avenue, 4th Floor, Portland, OR 97232-4181.

Authority

The authority for this action is the Endangered Species Act of 1973 (16 U.S.C. 1531 et seq.).

Dated: September 25, 2002.
Paul Hoffman,
Acting Assistant Secretary for Fish and Wildlife and Parks.

[FR Doc. 02-25039 Filed 10-1-02; 8:45 am]

BILLING CODE 4310-55-P